DEPARTMENT OF TRANSPORTATION

Federal Transit Administration

Transit Advisory Committee for Safety; Solicitation of Nominations

AGENCY: Federal Transit Administration (FTA), U.S. Department of Transportation (Department or DOT).

ACTION: Notice; solicitation of nominations for TRACS membership.

SUMMARY: The Department solicits nominations for membership to serve on the Transit Advisory Committee for Safety (TRACS), which is intended to provide information, advice, and recommendations to the U.S. Secretary of Transportation (Secretary) and FTA Administrator in response to tasks assigned to TRACS.

DATES: Nominations for TRACS membership must be received on or before October 2, 2025.

ADDRESSES: Application packages can be emailed to TRACS@dot.gov or sent to TRACS Nominations, Office of Transit Safety and Oversight, Federal Transit Administration, 1200 New Jersey Avenue SE, Washington, DC 20590-0001.

FOR FURTHER INFORMATION CONTACT: Joseph DeLorenzo, TRACS Designated Federal Officer, Associate Administrator, FTA Office of Transit Safety and Oversight, (202) 366-1783, Joseph.DeLorenzo@dot.gov, or TRACS@dot.gov.

SUPPLEMENTARY INFORMATION: TRACS was established on November 23, 2009. Most recently, its charter was renewed by the Secretary on June 9, 2025. TRACS operates in accordance with the Federal Advisory Committee Act, 5 U.S.C. ch. 10. The purpose of TRACS is to provide the Secretary and the FTA Administrator with information, advice, and recommendations related to the safety of the Nation's public transportation systems. TRACS does not exercise program management responsibilities and makes no decisions directly affecting the programs on which it provides advice. The Secretary may accept or reject a recommendation made by TRACS and is not bound to pursue any recommendation from TRACS.

In particular, TRACS will provide advice and recommendations on improvements and innovations in transit safety, review current challenges and innovations in public transportation, and provide recommendations that FTA can implement in support of safety in the public transportation sector. As stated in the 2024-2026 charter, TRACS must meet at least once a year. Unless otherwise required by law or approved by the Secretary, all meetings will be held virtually or in a hybrid forum that does not require additional use of Federal funds.

In this notice, the Department is soliciting nominations for membership to TRACS. TRACS reports to the Secretary through the FTA Administrator and comprises up to 25 members. Members should be knowledgeable of trends and issues related to rail transit and/or bus transit safety. Along with their experience in the rail transit and/or bus transit industry, applicants will also be evaluated and selected based on factors including leadership and organizational skills, region of the country represented, and the overall balance of industry representation. Members will serve two-year terms but may be reappointed. Past members of the advisory committee are welcome to apply. The Department is interested in ensuring membership is balanced fairly in terms of the points of view represented and the functions to be performed by TRACS.

Process and Deadline for Submitting Nominations: Qualified individuals can self-nominate or be nominated by any individual or organization. To be considered for nomination, nominators should submit the following information:

(1) Name, title, and relevant contact information (including phone, fax, and email address) of the individual requesting consideration;

(2) A letter of support from an agency, union, trade association, academic, or nonprofit organization on letterhead containing a brief description of why the nominee should be considered for membership;

(3) A short biography of nominee, including professional and academic credentials;

(4) An affirmative statement that the nominee meets all TRACS eligibility requirements.

Please do not send company, trade association, or organization brochures or any other information. Materials submitted should total two pages or less. Should more information be needed, DOT staff will contact the nominee, obtain information from the nominee's past affiliations, or obtain information from publicly available sources, such as the internet.

Nominations must be received before October 2, 2025. Nominees selected for appointment to TRACS will be notified by return email and by a letter of appointment.

Marcus J. Molinaro,
Administrator.

[FR Doc. 2025-16778 Filed 8-29-25; 8:45 am]

BILLING CODE 4910-57-P